DEPARTMENT OF HEALTH AND HUMAN SERVICES

National Institutes of Health

National Institute on Minority Health and Health Disparities; Amended Notice of Partially Closed Meeting

Notice is hereby given of a change in the meeting of the National Advisory Council on Minority Health and Health Disparities, May 05, 2025, 10:00 a.m. to May 05, 2025, 05:30 p.m., National Institute of Health, 31 Center Drive, Building 31C, Rooms F&G, D&E, and C, Bethesda, MD 20892 which was published in the Federal Register on March 31, 2025, FR Doc 2025-05512, 90 FR 14269.

This meeting notice is being amended to change the meeting format from hybrid to virtual. The meeting is partially Closed to the public.

Dated: April 11, 2025.
David W. Freeman,
Supervisory Program Analyst, Office of Federal Advisory Committee Policy.

[FR Doc. 2025-06487 Filed 4-16-25; 8:45 am]

BILLING CODE 4140-01-P